DEPARTMENT OF TRANSPORTATION

Federal Aviation Administration

Notice of Intent To Rule on Application 02-06-C-00-MGW To Impose and Use the Revenue From a Passenger Facility Charge (PFC) at Morgantown Municipal Airport, Morgantown, WV

AGENCY: Federal Aviation Administration (FAA), DOT.

ACTION: Notice of intent to rule on application.

SUMMARY: The FAA proposes to rule and invites public comment on the application to impose and use the revenue from a PFC at Morgantown Municipal Airport under the provisions of the Aviation Safety and Capacity Expansion Act of 1990 (Title IX of the Omnibus Budget Reconciliation Act of 1990) (Pub. L. 101-508) and part 158 of the Federal Aviation Regulations (14 CFR part 158).

DATES: Comments must be received on or before March 29, 2002.

ADDRESSES: Comments on this application may be mailed or delivered in triplicate to the FAA at the following address: Federal Aviation Administration, Airports Division, AEA-610, 1 Aviation Plaza, Jamaica, New York 11434.

In addition, one copy of any comments submitted to the FAA must be mailed or delivered to Larry Clark of the Federal Aviation Administration at the following address: 176 Airport Circle, Room 101, Beaver, West Virginia 25813-9350.

Air carriers and foreign air carriers may submit copies of written comments previously provided to the City of Morgantown under § 158.23 of part 158.

FOR FURTHER INFORMATION CONTACT: Eleanor Schifflin, Program Manager, PFC, Airports Division, 1 Aviation Plaza, Jamaica, New York, 11434, (718) 553-3354. The application may be reviewed in person at this same location.

SUPPLEMENTARY INFORMATION: The FAA proposes to rule and invites public comment on the application to impose and use the revenue from a PFC at Morgantown, Municipal Airport under the provisions of the Aviation Safety and Capacity Expansion Act of 1990 (Title IX of the Omnibus Budget Reconciliation Act of 1990) (Pub. L. 101-508) and part 158 of the Federal Aviation Regulations (14 CFR part 158).

On January 29, 2002, the FAA determined that the application to impose and use the revenue from a PFC submitted by the City of Morgantown was substantially complete within the requirements of § 158.25 of part 158. The FAA will approve or disapprove the application, in whole or in part, no later than April 18, 2002.

The following is a brief overview of the application.

PFC Application No.: 02-06-C-00-MGW.

Level of the proposed PFC: $4.50.

Proposed charge effective date: June 1, 2004.

Proposed charge expiration date: March 1, 2008.

Total estimated PFC revenue: $229,493.

Brief description of proposed project(s):

• Design and Construct ARFF/Snow Equipment Facility

• Acquire Snow Removal Equipment

• Design and Construct Taxiway A Extension

• Rotating Beacon

• Safety Area Study Runway 18/36

• Master Plan Study

Class or classes of air carriers which the public agency has requested not be required to collect PFCs: Nonscheduled/On Demand Air Carriers and Unscheduled Part 121 Charter Operators for Hire to the General Public.

Any person may inspect the application in person at the FAA office listed above under FOR FURTHER INFORMATION CONTACT which is the FAA Regional Airports Office.

In addition, any person may, upon request, inspect the application, notice and other documents germane to the application in person at the City of Morgantown.

Issued in Jamaica, New York on January 30, 2002.
Eleanor Schifflin,
Program Manager, PFC, AEA-620, Eastern Region.

[FR Doc. 02-4627 Filed 2-26-02; 8:45 am]

BILLING CODE 4910-13-M